DEPARTMENT OF THE INTERIOR

Bureau of Land Management

[CO930-06-9260NQ-COQB]

Notice of Availability of the Alamosa River Watershed Restoration Master Plan and Environmental Assessment

AGENCIES: Bureau of Land Management, Department of the Interior, lead agency; Fish and Wildlife Service, Department of the Interior, cooperating agency; Forest Service, Department of Agriculture, cooperating agency.

ACTION: Notice of availability.

SUMMARY: This notice advises the public and other agencies of the availability of the Alamosa River Watershed Restoration Master Plan and Environmental Assessment (“Plan”) prepared under the direction of Federal and state natural resource trustees, pursuant to subpart G of the National Oil and Hazardous Substances Pollution Contingency Plan (40 CFR 300.600 and 300.610) and Executive Order 12580. The Department of the Interior (represented by the Bureau of Land Management and the Fish and Wildlife Service), Department of Agriculture (represented by the Forest Service), and the State of Colorado (represented by the Departments of Law, Natural Resources, and Public Health and the Environment) are Trustees for natural resources considered in this Plan. The Alamosa River is located in the San Luis Valley of south-central Colorado. The Plan describes the Alamosa River environment and the impacts to watershed resources and land uses, and briefly describes proposed restoration projects.

DATES: On November 10, 2005, the Authorized Official (Colorado State Director of the Bureau of Land Management) of the Department of the Interior issued a Decision Record, which approved the preferred alternative in the Plan and Environmental Assessment. The Decision Record also referred to an attached Finding of No Significant Impact to the human environment, which concluded that an Environmental Impact Statement is not required. The Regional Director of the Fish and Wildlife Service concurred with release of the Plan. The Regional Forester of the Forest Service concurred with the Decision Record for the Plan and the Finding of No Significant Impact for the Environmental Assessment.

Addresses and Further Information: The Plan is available at the following Internet address: http://mountain-prairie.fws.gov/nrda/SummitvilleColo/Summitville.htm. Copies of the document are available for on-site review in the Del Norte Public Library, 190 Grand Avenue, Del Norte, CO 81131 or Department of Agriculture, Conejos County Natural Resources Conservation Service, 15 Spruce, La Jara, CO 81140. The Decision Record and further information is available from Robert Robinson, Bureau of Land Management, 2850 Youngfield Street, Lakewood, CO 80215, telephone 303-239-3642, or via e-mail at rob_robinson@blm.gov.

SUPPLEMENTARY INFORMATION: The Plan comprehensively addresses all watershed restoration needs, including those resulting from injuries pursuant to the federal Natural Resource Damage Assessment and Restoration (NRDAR) regulations in Title 43 Code of Federal Regulations part 11, as well as restoration needs arising from other impacts. The Plan also outlines several sets of projects based on competing needs and limited funding, and identifies a preferred restoration alternative, consisting of a project set that best addresses the various resource impacts. The Decision Record approves the preferred alternative, which includes projects for greater in-stream flow, cleaner surface water, river bank stabilization, restored riparian areas, abandoned mine reclamation, and increased public access to the river corridor. The Plan envisions funds from the NRDAR settlement, along with matching funds, grants, and other funding sources, to support the preferred alternative. The restoration actions ultimately undertaken will result from proposals for specific actions that respond to the needs and projects identified in the preferred restoration alternative. The Comprehensive Environmental Response, Compensation and Liability Act (CERCLA, more commonly known as the Federal ”Superfund” law) [42 U.S.C. 9601 et seq.] and the Federal Water Pollution Control Act, commonly known as the Clean Water Act (CWA) [33 U.S.C. 1251 et seq.] authorize States, federally recognized Tribes, and certain Federal agencies, which have the authority to manage or control natural resources, to act as ”trustees” on behalf of the public, to restore, rehabilitate, replace, and/or acquire natural resources equivalent to those harmed by hazardous substance releases.

The objective of the NRDAR process in the Alamosa River watershed is to compensate the public, through restoration actions, for losses to natural resources and services that have been caused by releases of toxic metals into the watershed. Restoration activities will be funded in part by natural resource damages recovered in settlement from the party responsible for recent contamination emanating from the Summitville mine in the upper watershed. The damages received must be used to restore, rehabilitate, replace and/or acquire the equivalent of those natural resources that have been injured.

The Trustees have a Memorandum of Agreement which establishes a Trustee Council to develop and implement a restoration plan for ecological restorations in the Alamosa River watershed. The Trustees followed the NRDAR regulations found at Title 43 Code of Federal Regulations part 11 for development of the Plan. The Trustees have worked together, in a cooperative process with the public, to determine appropriate restoration activities to address natural resource injuries caused by Summitville releases of hazardous substances, as well as other watershed impacts identified during planning. The Plan addresses the Trustees' overall approach to restore, rehabilitate, replace, or acquire the equivalent of natural resources injured by the release of toxic metals into the Alamosa River watershed environment. The public was invited to review and comment on the draft Plan during a 30-day period, and to attend a meeting near the site during which important elements of the draft Plan were presented. Approximately 29 comments were received, to which responses have been prepared and included, along with the comments, in the final Plan. Some comments prompted minor text changes, but no comments required significant changes to the document, or to the restoration approach that the Trustees and public have selected.

Authority: 42 U.S.C. 4321-4347.

Dated: April 4, 2006.
Robert H. Robinson,
Summitville Trustee Council Representative, Division of Energy, Lands and Minerals, Colorado State Office, Bureau of Land Management.

[FR Doc. E6-7529 Filed 5-17-06; 8:45 am]

BILLING CODE 4310-JB-P